FEDERAL MARITIME COMMISSION

Ocean Transportation Intermediary License Applicants

Notice is hereby given that the following applicants have filed with the Federal Maritime Commission an application for a license as a Non-Vessel-Operating Common Carrier (NVO) and/or Ocean Freight Forwarder (OFF)—Ocean Transportation Intermediary (OTI) pursuant to section 19 of the Shipping Act of 1984 as amended (46 U.S.C. Chapter 409 and 46 CFR 515). Notice is also hereby given of the filing of applications to amend an existing OTI license or the Qualifying Individual (QI) for a license.

Interested persons may contact the Office of Transportation Intermediaries, Federal Maritime Commission, Washington, D.C. 20573.

A-1 Fargo Van and Storage, Inc. (OFF), 7700 S.W. 100th Street, Miami, FL 33156. Officers: Treva H. Ward, Vice President, (Qualifying Individual), Virgil Hale, President, Application Type: New OFF License.

AFL International Logistics Group LLC (NVO), 671 N.W. 4th Avenue, Fort Lauderdale, FL 33311. Officer: Gabriele U. Heinrichs, Managing Member, (Qualifying Individual), Application Type: New NVO License.

Air Tiger Express (USA), Inc. (NVO & OFF), 149-09 183rd Street, 2nd Floor, Springfield Gardens, NY 11413. Officers: Russell Lee, Vice President, (Qualifying Individual), Richard Chu, Director/Chief Executive Officer, Application Type: QI Change.

Allstate Int'l Freight USA, Inc. dba A.I.F. Company (NVO & OFF), 200 E. Stanley Street, Compton, CA 90220. Officer: Byung H. Kim, CEO/President/Secretary/CFO/Director, (Qualifying Individual), Application Type: QI Change.

Amarine USA, Inc. (NVO), 21 Langerfeld Road, Hillsdale, NJ 07642. Officers: Moon H. You, President/Secretary, (Qualifying Individual), Han J. Song, Treasurer, Application Type: Name Change.

Cargo Infinity USA, Inc. (OFF), 23322 Madero Road, Suite K, Mission Viejo, CA 92691. Officers: Jean L. Niu, President/CEO, (Qualifying Individual), Annie Lam, Director/Secretary/Treasurer/CFO, Ada Lai Y. Lee, Director, Application Type: New OFF License.

Direct Service Inc. dba Tiger Freight International, Corporation (NVO), 1209 John Reed Court, City of Industry, CA 91745. Officer: Chi (Steve) H. Hung, President, (Qualifying Individual), Application Type: Trade Name Change.

Eagle Maritime Private Limited dba Eagle Maritime USA Inc. (NVO), 17, Contractor Building, 1st Floor, 15, Vajukotak Marg, Fort, Mumbai 400001 India. Officer: Dasharath Y. Patade, Chairman/Director/Shareholder, (Qualifying Individual), Application Type: New NVO License.

Global Freight Services, Inc. (NVO & OFF), 32 Raymond Avenue, Chestnut Ridge, NY 10977. Officer: Rosario Vizzari, President/Secretary/Treasurer, (Qualifying Individual), Application Type: License Transfer.

Intership, Inc dba Helm Express (NVO & OFF), 2530 Knoblock, Houston, TX 77023. Officer: Yasser Shaikh, President, (Qualifying Individual), Application Type: Add NVO Service and Trade Name Change.

Jupiter Airline Services, Inc. dba Mercury Logistics (NVO), 5456 McConnell Avenue, Los Angeles, CA 90066. Officers: Zack Vernikovsky, Vice President/Director, (Qualifying Individual), Joseph A. Czyzyk, CEO/Director, Application Type: New NVO License.

Legend Express Co. (OFF), 1506 S. Paloma Street, Los Angeles, CA 90021. Officers: Gila Morad, Chief Executive Officer/Chief Financial Officer, (Qualifying Individual), Natali Morad, Secretary, Application Type: QI Change.

Linsan.Tex Investments, L.L.C. (OFF), 8404 Endicott Lane, Dallas, TX 75227. Officers: Franklin E. Aigbuza, Secretary/Member, (Qualifying Individual), Roseline A. Izedonmwen, CEO/Member, Application Type: New OFF License.

Ocean Air Land Freight, Corp. (OFF), 8600 NW 30th Terrace 2nd Floor, Miami, FL 33122. Officers: Martha Zuluaga, President, (Qualifying Individual), Maria J. Gori, Secretary/Treasurer, Application Type: Trade Name Change.

Ocean Channel Shipping Co., Ltd. (NVO), 13091 Nordland Drive, Corona, CA 92880. Officer: Xiaohua Huo, President, (Qualifying Individual), Application Type: New NVO License. Siman Logistics, Inc. (NVO & OFF), 765 N, IL Route 83, Suite 124, Bensenville, IL 60106. Officers: Wolfgang A. Ries, Senior Vice President, (Qualifying Individual), Christian Ludwig, President, Application Type: New NVO & OFF License.

Top Wise Logistics Inc. (NVO), 654 N. Spring Street, Los Angeles, CA 90012. Officer: George N. Lee, CEO/CFO/Secretary, (Qualifying Individual), Application Type: New NVO License.

Trinity Logistics USA, Inc. (NVO), 10 East Merrick Road, Suite 304, Valley Stream, NY 11580. Officers: Doris McGregory, Treasurer, (Qualifying Individual), David Pereira, President/Secretary, Application Type: New NVO License.

Twenty Two Global Transport, LP (NVO & OFF), 1911 Bagby Street, Houston, TX 77002. Officers: Kevin A. Smoot, Partner/Director, (Qualifying Individual), Robert Crossland, Vice President, Application Type: New NVO & OFF License.

United Marine Lines, L.L.C. (NVO), 201 Sevilla Avenue, Suite 309, Coral Gables, FL 33134. Officers: Eduardo Del Riego, President/Secretary, (Qualifying Individual), Robert Boucek, Vice President/Treasurer, Application Type: New NVO License.

Dated: July 9, 2010.
Karen V. Gregory,
Secretary.

[FR Doc. 2010-17175 Filed 7-13-10; 8:45 am]

BILLING CODE 6730-01-P